DEPARTMENT OF ENERGY

Beijing Green Olympics Program

AGENCY: Office of Fossil Energy, DOE.

ACTION: Request for comments.

SUMMARY: The Department of Energy (DOE) will be entering into a dialogue with the Beijing City Government in preparation for implementation of the Green Olympics Program. DOE is requesting comments from stakeholders on the best way to use this opportunity to develop markets in China for American firms.

DATES: Comments must be submitted on or before August 14, 2002.

ADDRESSES: Comments should be addressed as follows: Office of Coal & Power Import/Export (FE-27), Office of Fossil Energy, U.S. Department of Energy, 1000 Independence Avenue, SW, Washington, DC 20585-0350 (FAX (301) 903-1591).

FOR FURTHER INFORMATION CONTACT: Barbara McKee via e-mail at barbara.mckee@hq.doe.gov, or by telephone at (301) 903-3820.

SUPPLEMENTARY INFORMATION: In 2001, the City of Beijing was chosen to host the 2008 Summer Olympic Games. Prior to 2008, Beijing will be implementing the “Green Olympics” program, where billions of dollars will be invested in new infrastructure projects to improve the city's environment. Central to these investments will be the application of new technologies to improve Beijing's air quality.

The use of fossil fuels dominates China's energy demographic and China represents a large market for American goods and services in energy fields. Additionally, through the Beijing Green Olympics program, there will be substantial business opportunities for American firms with offerings including clean coal and oil and gas technologies, as well as emissions control systems.

DOE is preparing to enter into a dialogue with the Beijing City Government, which is implementing the Green Olympics Program. DOE is interested in its stakeholders' views as to how it can effectively use this relationship to develop market share for American firms.

If there are specific items that anyone would like to see included in this dialogue, please provide that information to Barbara Mckee, Director, Office of Coal and Power Import/Export, at the address, e-mail, and telephone number listed above. A letter from Carl Michael Smith, Assistant Secretary, Office of Fossil Energy, announcing this initiative and requesting comments appears on the Fossil Energy website at www.fossil.energy.gov. A copy of that letter also appears on the Federal Business Opportunities website at www.fedbizops.gov.

Issued in Washington, DC, on July 8, 2002.
Anthony J. Como,
Deputy Director, Electric Power Regulation, Office of Coal and Power Import/Export, Office of Coal and Power Systems, Office of Fossil Energy.

[FR Doc. 02-17634 Filed 7-12-02; 8:45 am]

BILLING CODE 6450-01-P